DEPARTMENT OF ENERGY

Federal Energy Regulatory Commission

[Docket No. ER01-137-000]

Tenaska Alabama II Partners, L.P.; Notice of Issuance of Order

December 12, 2000.

Tenaska Alabama II Partners, L.P. (Tenaska Alabama) submitted for filing a rate schedule under which Tenaska Alabama will engage in wholesale electric power and energy transactions at market-based rates. Tenaska Alabama also requested waiver of various Commission regulations. In particular. Tenaska Alabama requested that the Commission grant blanket approval under 18 CFR Part 34 of all future issuances of securities and assumptions of liability by Tenaska Alabama.

On December 8, 2000, pursuant to delegated authority, the Director, Division of Corporate Applications, Office of Markets, Tariffs and Rates, granted requests for blanket approval under Part 34, subject to the following:

Within thirty days of the date of the order, any person desiring to be heard or to protest the blanket approval of issuances of securities or assumptions of liability by Tenaska Alabama should file a motion to intervene or protest with the Federal Energy Regulatory Commission, 888 First Street, NE., Washington, DC 20426, in accordance with Rules 211 and 214 of the Commission's Rules of Practice and Procedure (18 CFR 385.211 and 385.214).

Absent a request for hearing within this period, Tenaska Alabama is authorized to issue securities and assume obligations or liabilities as a guarantor, indorser, surety, or otherwise in respect of any security of another person; provided that such issuance or assumption is for some lawful object within the corporate purposes of the applicant, and compatible with the public interest, and is reasonably necessary or appropriate for such purposes.

The Commission reserves the right to require a further showing that neither public nor private interests will be adversely affected by continued approval of Tenaska Alabama's issuances of securities or assumptions of liability.

Notice is hereby given that the deadline for filing motions to intervene or protests, as set forth above, is January 8, 2001.

Copies of the full text of the Order are available from the Commission's Public Reference Branch, 888 First Street, NE., Washington, DC 20426. The Order may also be viewed on the Internet at http://www.ferc.fed.us/online/rims.htm (call 202-208-2222 for assistance).

David P. Boergers,
Secretary.

[FR Doc. 00-32125 Filed 12-15-00; 8:45 am]

BILLING CODE 6717-01-M